DEPARTMENT OF HEALTH AND HUMAN SERVICES

National Institutes of Health

National Institute of Mental Health; Amended Notice of Meeting

Notice is hereby given of a change in the meeting of the National Institute of Mental Health Special Emphasis Panel, July 31, 2003, 1 p.m. to July 31, 2003, 2:30 p.m. National Institutes of Health, Neuroscience Center, 6001 Executive Boulevard, Rockville, MD, 20852 which was published in the Federal Register on June 6, 2003, 68 FR 33958.

The meeting will be held on August 8, 2003 and is going to be held at the same time and at the same place. The meeting is closed to the public.

Dated: July 16, 2003.
LaVerne Y. Stringfield,
Director, Office of Federal Advisory Committee Policy.

[FR Doc. 03-18882 Filed 7-23-03; 8:45 am]

BILLING CODE 4140-01-M